SURFACE TRANSPORTATION BOARD

[Docket No. FD 36793]

Connersville Northern Railroad LLC—Acquisition and Change of Operator Exemption—RMW Ventures, LLC

Connersville Northern Railroad LLC (CNNR), a non-carrier, has filed a verified notice of exemption under 49 CFR part 1150, subpart D, to acquire and operate approximately 5.2 miles of rail line owned by RMW Ventures, LLC (RMW), extending from milepost 0.0 at Connersville, Ind., to milepost 5.2 at Beesons, Ind. (the Line). The verified notice states that the Line is currently operated by Big Four Terminal Railroad, LLC (BFT), a corporate affiliate of RMW.¹

¹ CNNR states that RMW and BFT are affiliated entities under common control of Spencer N. Wendelin. See RMW Ventures, LLC—Corp. Family Transaction—Big Four Terminal R.R., FD 35798 (STB served Mar. 21, 2014).

According to the verified notice, CNNR and RMW recently have entered into an asset purchase and sales agreement pursuant to which CNNR: (1) will acquire the Line; and (2) upon consummation of the transaction, replace BFT as the exclusive common carrier service provider on the Line.

CNNR certifies that the transaction would not contractually limit CNNR from interchanging traffic with any connecting carrier. CNNR also certifies that its projected annual revenues as a result of this transaction will not result in its becoming a Class II or Class I rail carrier and will not exceed $5 million.

Under 49 CFR 1150.32(b), a change in operator requires that notice be given to shippers. According to the verified notice, the Line is currently inactive and has for over two years lacked any active customers, and therefore, there are no shippers to be notified of the proposed transaction.

Unless stayed, the exemption will be effective on July 26, 2024 (30 days after the verified notice was filed). CNNR states that it intends to consummate the proposed transaction following that date.

If the verified notice contains false or misleading information, the exemption is void ab initio. Petitions to revoke the exemption under 49 U.S.C. 10502(d) may be filed at any time. The filing of a petition to revoke will not automatically stay the effectiveness of the exemption. Petitions for stay must be filed no later than July 19, 2024 (at least seven days before the exemption becomes effective).

All pleadings, referring to Docket No. FD 36793, must be filed with the Surface Transportation Board via e-filing on the Board's website or in writing addressed to 395 E Street SW, Washington, DC 20423-0001. In addition, one copy of each pleading must be served on CNNR's representative, Robert A. Wimbish, Fletcher & Sippel LLC, 29 North Wacker Drive, Suite 800, Chicago, IL 60606-3208.

According to CNNR, this action is categorically excluded from environmental review under 49 CFR 1105.6(c) and from historic preservation reporting requirements under 49 CFR 1105.8(b).

Board decisions and notices are available at www.stb.gov.

Decided: July 8, 2024.
By the Board, Scott M. Zimmerman, Acting Director, Office of Proceedings.
Kenyatta Clay,
Clearance Clerk.

[FR Doc. 2024-15280 Filed 7-11-24; 8:45 am]

BILLING CODE 4915-01-P